DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Survey to Assess Gender, Race, and Ethnicity of Clients and Staff at BPHC Supported Community-Based Health Service Sites—New

The Office of Minority and Women's Health (OMWH), in the Bureau of Primary Health Care (BPHC), Health Resources and Services Administration (HRSA), recognizes that information on the gender, race, and ethnicity of clients and staff employed at BPHC supported programs is important in determining the extent to which BPHC supported programs reflect the populations they serve. The OMWH purposes to conduct a survey for the purpose of obtaining baseline data on the gender, racial, and ethnic composition of both users and staff at its supported programs.

This survey will permit the BPHC to determine the extent that gender, racial and ethnic composition of employees at supported community-based health care partners reflect the populations they serve. By obtaining this information, BPHC and its service partners will generate the baseline data necessary to determine if improvements should be made to increase the future diversity and knowledge base of staff working at its federally supported health service sites. If health care providers are informed regarding health care issues pertaining to their diverse clientele, and prepared to determine their health behaviors and needs, providers will be better equipped to effectively prevent and treat illnesses.

The burden estimate for this project is as follows:

Form name | Number of respondents | Responses per respondent | Total responses | Average time per response | Total burden hours
Staff Survey | 150 | 74 | 11,100 | .0833 | 925
Director Survey | 150 | 1 | 150 | .5 | 75
Total | 300 |  | 11,250 |  | 1,000

Written comments and recommendations concerning the proposed information collection should be sent within 30 days of this notice to: John Morrall, Human Resources and Housing Branch, Office of Management and Budget, New Executive Office Building, Room 10235, Washington, DC 20503.

Dated: August 5, 2002.
Jane M. Harrison,
Director, Division of Policy Review and Coordination.

[FR Doc. 02-20264 Filed 8-9-02; 8:45 am]

BILLING CODE 4165-15-P